DEPARTMENT OF THE INTERIOR

National Park Service

Notice of Intent; Livestock Management Plan With Allotment Management Plans, Environmental Impact Statement, Dinosaur National Monument, Utah and Colorado

January 17, 2002.

AGENCY: National Park Service, Department of the Interior.

ACTION: Notice of intent to prepare an environmental impact statement for the Livestock Management Plan and associated Allotment Management Plans, Dinosaur National Monument.

SUMMARY: Under the provisions of the National Environmental Policy Act of 1969, the National Park Service is preparing an environmental impact statement for the Livestock Management Plan and associated allotment management plans for Dinosaur National Monument. This effort will result in a comprehensive livestock management plan that encompasses preservation of natural and cultural resources, meets current policies, and provides a framework for making grazing-related decisions, and serves as an operational manual. Development of these plans is compatible with the broader goals and objectives derived from the Monument mission that governs resources management. In cooperation with the Bureau of Land Management, attention will also be given to resources outside the boundaries that affect the integrity of Dinosaur National Monument resources. Alternatives will be developed through the scoping and planning process, and at a minimum will include a No Action Alternative and a Preferred Alternative. Major issues are: effects to soil and water resources, to proposed wilderness, presence of threatened, endangered and/or sensitive species, invasive nonnative species; conflicts with recreational uses; proposed Research Natural Areas; archaeological/historic resources; socioeconomic effects; and other sensitive natural resources such as riparian areas, A scoping letter as been prepared that details the issues identified to date. Copies of that information may be obtained from Nanci Regnier SWCA, Inc., Environmental Consultants, 8461 Turnpike Drive, Suite 100, Westminster, CO 80031. The scoping period will be 30 days from the date this notice is published in the Federal Register. In addition, NPS will hold public scoping meetings regarding the plans in April 2002; specific dates, times, and locations will be announced in local media and will also be available by contacting the Superintendent of Dinosaur National Monument at (970) 374-3001 or by contacting SWCA as above.

Comments: If you wish to comment on the scoping letter, you may submit your comments by any one of several methods. You may mail comments to SWCA, at the above address. You may also comment via the Internet to nregnier@swca.com. Please submit Internet comments as an ASCII file avoiding the use of special characters and any form of encryption. Please also include “Attn: DINO LMP” and your name and return address in your Internet message. If you do not receive a confirmation from the system that we have received your Internet message, contact Nanci Regnier at SWCA, Inc. directly at above address or at (303) 487-1183. Finally, you may hand-deliver comments to above address. Our practice is to make comments, including names and home addresses of respondents, available for public review during regular business hours. Individual respondents may request that we withhold their home address from the record, which we will honor to the extent allowable by law. There also may be circumstances in which we would withhold from the record a respondent's identity, as allowable by law.

If you wish us to withhold your name and/or address, you must state this prominently at the beginning of your comment. We will make all submissions from organizations or businesses, and from individuals identifying themselves as representatives or officials of organizations or businesses, available for public inspection in their entirety.

FOR FURTHER INFORMATION CONTACT: Nanci Regnier, SWCA, Inc., Environmental Consultants (303) 487-1183.

Dated: January 22, 2002.
R. Everhart,
Director, Intermountain Region, National Park Service.

[FR Doc. 02-6040 Filed 3-12-02; 8:45 am]

BILLING CODE 4310-70-P